NUCLEAR REGULATORY COMMISSION

[NRC-2015-0091]

Quality Group Classifications and Standards for Water-, Steam-, and Radioactive-Waste-Containing Components of Nuclear Power Plants

AGENCY: Nuclear Regulatory Commission.

ACTION: Regulatory guide; issuance.

SUMMARY: The U.S. Nuclear Regulatory Commission (NRC) is issuing Revision 5 to Regulatory Guide (RG) 1.26, “Quality Group Classifications and Standards for Water-, Steam-, and Radioactive-Waste-Containing Components of Nuclear Power Plants.” This guidance has been revised to update references to related NRC's guidance, to incorporate lessons learned from recent NRC reviews and regulatory activities, and to align the format and content of the guide with the current program guidance for RGs which was developed since Revision 4 of RG 1.26 was issued.

ADDRESSES: Please refer to Docket ID NRC-2015-0091 when contacting the NRC about the availability of information regarding this document. You may obtain publically-available information related to this document, using the following methods:

• Federal Rulemaking Web site: Go to http://www.regulations.gov and search for Docket ID NRC-2015-0091. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. Revision 5 of Regulatory Guide 1.26, and the regulatory analysis may be found in ADAMS under Accession Nos. ML16082A501 and ML14356A247, respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Tuan Le, Office of New Reactors, telephone: 301-415-2297, email: Tuan.Le@nrc.gov; or Stephen Burton, Office of Nuclear Regulatory Research, telephone: 301-415-7000, email: Stephen.Burton@nrc.gov. Both are staff members of the U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the staff uses in evaluating specific issues or postulated events, and data that the staff needs in its review of applications for permits and licenses.

Revision 5 of RG 1.26 was issued with a temporary identification as Draft Regulatory Guide, DG-1314. This guidance has been revised to update references to related NRC guidance, to incorporate lessons learned from recent NRC reviews and regulatory activities, and to align the format and content of the guide with the current program guidance for regulatory guides (RGs) which was developed since Revision 4 of RG 1.26 was issued.

II. Additional Information

The DG-1314, was published in the Federal Register on April 16, 2015 (80 FR 20511), for a 60-day public comment period. The public comment period closed on June 15, 2015. No public comments were received on DG-1314.

III. Congressional Review Act

This regulatory guide is a rule as defined in the Congressional Review Act (5 U.S.C. 801-808). However, the Office of Management and Budget has not found it to be a major rule as defined in the Congressional Review Act.

IV. Backfitting and Issue Finality

Revision 5 of RG 1.26 describes a quality classification system related to specified national standards that may be used to determine quality standards acceptable to the NRC staff for satisfying General Design Criterion (GDC) 1, “Quality Standards and Records,” as set forth in appendix A, “General Design Criteria for Nuclear Power Plants,” to part 50 title 10 of the Code of Federal Regulations (10 CFR), “Domestic Licensing of Production and Utilization Facilities,” for components containing water, steam, or radioactive material in light-water-cooled nuclear power plants. Issuance of this RG does not constitute backfitting as defined in 10 CFR 50.109 (the Backfit Rule) and is not otherwise inconsistent with the issue finality provisions in 10 CFR part 52. As discussed in the “Implementation” section of this RG, the NRC has no current intention to impose this RG on holders of current operating licenses or combined licenses.

This RG may be applied to applications for operating licenses, combined licenses, early site permits, and certified design rules docketed by the NRC as of the date of issuance of the final regulatory guide, as well as future applications submitted after the issuance of the regulatory guide. Such action would not constitute backfitting as defined in the Backfit Rule or be otherwise inconsistent with the applicable issue finality provision in 10 CFR part 52, inasmuch as such applicants or potential applicants are not within the scope of entities protected by the Backfit Rule or the relevant issue finality provisions in part 52.

Dated at Rockville, Maryland, this 22nd day of February, 2017.
For the Nuclear Regulatory Commission.
Harriet Karagiannis,
Acting Chief, Regulatory Guidance and Generic Issues Branch, Division of Engineering, Office of Nuclear Regulatory Research.

[FR Doc. 2017-03890 Filed 2-27-17; 8:45 am]

BILLING CODE 7590-01-P